DEPARTMENT OF AGRICULTURE

Animal and Plant Health Inspection Service

[Docket No. 01-053-1]

Notice of Request for Reinstatement of an Information Collection

AGENCY: Animal and Plant Health Inspection Service, USDA.

ACTION: Reinstatement of approval of an information collection; comment request.

SUMMARY: In accordance with the Paperwork Reduction Act of 1995, this notice announces the Animal and Plant Health Inspection Service's intention to request a reinstatement of an information collection in support of regulations governing the importation of fresh Hass avocados into the United States.

DATES: We invite you to comment on this docket. We will consider all comments that we receive by August 31, 2001.

ADDRESSES: Please send four copies of your comment (an original and three copies) to: Docket No. 01-053-1, Regulatory Analysis and Development, PPD, APHIS, Suite 3C03, 4700 River Road Unit 118, Rverdale, MD 20737-1238.

Please state that your comment refers to Docket No. 01-053-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the regulations governing the importation of fresh Hass avocados into the United States, contact Mr. Wayne W. Burnett, Senior Import Specialist, Phytosanitary Issues Management Staff, Plant Protection and Quarantine, APHIS, 4700 River Road Unit 134, Riverdale, MD 20737-1236; (301) 734-6799.

For copies of more detailed information on the information collection, contact Mrs. Celeste Sickles, APHIS' Information Collection Coordinator, at (301) 734-7477.

SUPPLEMENTARY INFORMATION: Title: Mexican Hass Avocado Import Program.

OMB Number: 0579-0129.

Type of Request: Reinstatement of an information collection.

Abstract: The United States Department of Agriculture (USDA) is responsible for preventing plant pests from entering the United States and controlling and eradicating plant pests in the United States. The Plant Protection Act authorizes the Department to carry out this mission. The Plant Protection and Quarantine (PPQ) program of USDA's Animal and Plant Health Inspection Service is responsible for implementing the regulations that carry out the intent of this Act. The regulations in “Subpart—Fruits and Vegetables” (7 CFR 319.56 through 319.56-8) prohibit or restrict the importation of fruits and vegetables into the United States from certain parts of the world to prevent the introduction and dissemination of plant pests, including fruit flies, that are new to or not widely distributed within the United States.

The regulations in § 319.56-2ff allow fresh Hass avocados grown in approved orchards in Michoacan, Mexico, to be imported into certain areas of the United States under conditions designed to ensure that the avocados do not harbor insect pests (including avocado stem weevils, seed weevils, and seed moths) that could harm U.S. agriculture. To reduce the pest risk to a negligible level, the regulations stipulate conditions for the importation of avocados, which include pest surveys, packinghouse procedures, inspection and shipping procedures, and restrictions on the time of year shipments may be imported into the United States.

Allowing avocados to be imported necessitates the use of certain information collection activities, including the use of an application for permit, a trust fund agreement, a phytosanitary certificate, certain marking requirements, seals, an annual workplan, and fruit fly surveys.

We are asking the Office of Management and Budget (OMB) to approve our use of these information collections for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 1.165 hours per response.

Respondents: Packinghouse owners/operators in Mexico, importers, shippers, distributors, and handlers of fresh Hass avocados imported into the United States from Mexico.

Estimated annual number of respondents: 380.

Estimated annual number of responses per respondent: 1.

Estimated annual number of responses: 380.

Estimated total annual burden on respondents: 443 hours. (Due to averaging, the total annual burden hours may not equal the product of the annual number of responses multiplied by the reporting burden per response.)

All responses to this notice will be summarized and included in the request for OMB approval. All comments will also become a matter of public record.

Done in Washington, DC, this 26th day of June 2001.
Craig A. Reed,
Administrator, Animal and Plant Health Inspection Service.

[FR Doc. 01-16578 Filed 6-29-01; 8:45 am]

BILLING CODE 3410-34-P